DEPARTMENT OF ENERGY

Federal Energy Regulatory Commission

[Docket No. CP00-167-000]

Koch Gateway Pipeline Company; Notice of Application

April 10, 2000.

Take notice that on April 3, 2000, Koch Gateway Pipeline Company (Koch Gateway), P.O. Box 1478, Houston, Texas 77521-1478, pursuant to Section 7(b) of the Natural Gas Act and Section 157.18 of the Commission's Regulations filed in Docket No. CP00-167-000, an abbreviated application for an order permitting and approving the abandonment of individually certified transportation service agreements on file with the Commission as described herein.

These individually certified services are no longer required by Natural Gas Pipeline Company of America (Natural) and have been terminated by mutual agreement between Koch Gateway and Natural. Koch Gateway states this abandonment of service is in the public interest and will have no effect on any existing customer, all as more fully set forth in the abbreviated application which is on file with the Commission and open for public inspection. A contact person for this filing is Kyle Stephens, Director of Certificates, Koch Gateway Pipeline Company, P.O. Box 1478, Houston, Texas, 77251-1478.

Any persons desiring to participate in the hearing process or to make any protest with reference to said application should file a motion to intervene or a protest with the Federal Energy Regulatory Commission, 888 First Street, NE, Washington, DC 20426, in accordance with Sections 385.214 and 385.211 of the Commission's Rules of Practice and Procedures (18 CFR 385.214, 385.211). All such petitions or protests should be filed on or before April 25, 2000. Protests will be considered by the Commission in determining the appropriate action to be taken, but will not serve to make protestants Applicants at the proceedings. Any person wishing to become a party must file a petition to intervene. Copies of this filing are on file with the Commission and are available for public inspection. This filing may be viewed on the web at http://www.ferc.fed.us/online/rims.htm (please call (202) 208-2222 for assistance).

Take further notice that, pursuant to the authority contained in and subject to the jurisdiction conferred upon the Commission by Sections 7 and 15 of the Natural Gas Act and the Commission's Rules of Practice and Procedure, a hearing will be held without further notice before the Commission on this application if no protest or petition to intervene is filed within the time required herein, if the Commission on its own review of the matter finds that a grant of the abandonment is required by the public convenience and necessity. If a protest or petition for leave to intervene is timely filed, or if the Commission on its own motion believes that a formal hearing is required, further notice of such hearing will be duly given.

Under the procedures herein provided for, unless otherwise advised, it will be unnecessary for Koch Gateway to appear or to be represented at the hearing.

David P. Boergers,
Secretary.

[FR Doc. 00-9307 Filed 4-13-00; 8:45 am]

BILLING CODE 6717-01-M